DEPARTMENT OF COMMERCE

Foreign-Trade Zones Board

[Docket 57-2005]

Foreign-Trade Zone No. 181, Application for Expansion, Amendment of Application

Notice is hereby given that the application of the Northeast Ohio Trade & Economic Consortium (NEOTEC), grantee of FTZ 181, for authority to expand and reorganize FTZ 181 in the Akron/Canton, Ohio area (Doc. 57-2005, 70 FR 71085, 11/25/05), has been amended to delete the proposed transfer of a parcel within the Cuyahoga Falls Industrial Park to leaving the 12 acres in the northwestern and central portions of the Park as part of the zone. The application otherwise remains unchanged.

Comments on the change may be submitted to the Foreign-Trade-Zones Board, U.S. Department of Commerce, FCB—Suite 4100W, 1401 Constitution Ave., NW., Washington, DC 20230, by February 17, 2006.

Dennis Puccinelli,
Executive Secretary.

[FR Doc. E6-1417 Filed 2-1-06; 8:45 am]

BILLING CODE 3510-DS-S